ENVIRONMENTAL PROTECTION AGENCY

[AD-FRL-7035-4]

RIN 2060-AE55

Agency Information Collection Activities: Proposed Collection; Comment Request; National Volatile Organic Compound Emission Standards for Architectural Coatings

AGENCY: Environmental Protection Agency (EPA).

ACTION: Notice.

SUMMARY: In compliance with the Paperwork Reduction Act (44 U.S.C. 3501, et seq.), this document announces that EPA is planning to submit the following continuing Information Collection Request (ICR) to the Office of Management and Budget (OMB): “Reporting and Recordkeeping Requirements for National Volatile Organic Compound Emission Standards for Architectural Coatings,” EPA ICR No. 1750.02, OMB Control No. 2060-0393, expires January 31, 2002. Before submitting the ICR to OMB for review and approval, EPA is soliciting comments on specific aspects of the proposed information collection as described below.

DATES: Comments must be submitted on or before October 16, 2001.

ADDRESSES: Comments. By U.S. Postal Service, written comments should be submitted (in duplicate if possible) to: Air and Radiation Docket and Information Center (6102), Attention Docket Number A-92-18, U.S. Environmental Protection Agency, 1200 Pennsylvania Avenue, NW., Washington, DC 20460. In person or by courier, deliver comments to: Air and Radiation Docket and Information Center (6102), Attention Docket Number A-92-18, U.S. Environmental Protection Agency, 401 M Street, SW., Room M-1500, Washington, DC 20460. The EPA requests a separate copy also be sent to the contact person listed in FOR FURTHER INFORMATION CONTACT.

Information concerning the ICR and the rule. Information on the ICR and the Architectural Coatings Rule can be obtained from the docket (below) and is also available for downloading from EPA's internet website for this rule at http://www.epa.gov/ttn/uatw/183e/aim/aimpg.html.

Docket. Docket Number A-92-18, containing the ICR and supporting statement, is available for public inspection and copying from 8:00 a.m. to 5:30 p.m., Monday through Friday, excluding legal holidays, at the EPA's Air and Radiation Docket and Information Center, Waterside Mall, Room M-1500, Ground Floor, 401 M Street, SW., Washington, DC 20460, telephone number (202) 260-7548. A reasonable fee may be charged for copying.

FOR FURTHER INFORMATION CONTACT: Ms. Linda Herring, Coatings and Consumer Products Group, Emission Standards Division (MD-13), U.S. Environmental Protection Agency, Research Triangle Park, NC 27711; telephone number (919) 541-5358; facsimile number (919) 541-5689; electronic mail (e-mail) address: herring.linda@epa.gov.

SUPPLEMENTARY INFORMATION:

Affected Entities

Entities potentially affected by this action are those which manufacture or import architectural coatings for sale or distribution in the United States, including the District of Columbia and all United States territories.

Title: National Volatile Organic Compound Emission Standards for Architectural Coatings, OMB Control No. 2060-0393; EPA ICR No. 1750.02; expires January 31, 2002.

Abstract

The information collection includes initial reports, annual reporting, and recordkeeping necessary for EPA to ensure compliance with Federal standards for volatile organic compounds in architectural coatings. Respondents are manufacturers and importers of architectural coatings. Responses to the collection are mandatory under 40 CFR part 59, subpart D—National Volatile Organic Compound Emission Standards for Architectural Coatings. All information submitted to EPA for which a claim of confidentiality is made will be safeguarded according to the Agency policies set forth in 40 CFR part 2, subpart B—Confidentiality of Business Information. An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of EPA, including whether the information will have practical utility;

(ii) evaluate the accuracy of EPA's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previous applicable instructions and requirements; train personnel to be able to respond to a collection of information; search data sources; complete and review the collection of information; and transmit or otherwise disclose the information. Total industry burden is estimated to be 23,411 hours per year, at a total labor cost of $1,425,382 per year. Labor costs were estimated based on Table 2 of the Bureau of Labor Statistics (BLS) Employment Cost Trends. After adding overhead costs of 100 percent to the BLS figures, the resulting hourly labor rates for management, technical, and clerical labor are $74, $52, and $34, respectively. There are no capital costs associated with this collection. Burden was calculated based on the following assumptions:

(i) Initial Notification Reports will have been submitted by nearly all the estimated 500 regulated entities prior to expiration of the existing ICR. Therefore, the burden calculation is based on 5 notifications per year beginning in 2002.

(ii) Reading the rule to obtain the recordkeeping and reporting instructions would require 2 hours per respondent.

(iii) Completion of the Initial Notification Report, including the date code explanation, would require 3 hours per respondent.

(iv) Notification of change in date code would require 2 hours per respondent.

(v) Annual planning for recordkeeping activities would require 8 hours per respondent.

(vi) Labeling products would require 67 hours per respondent.

(vii) An additional recordkeeping and annual reporting burden, required only for those who choose the recycled coating provision, exceedance fee provision, or tonnage exemption in lieu of meeting the coating volatile organic compound content limits, is based on the assumptions that 25 manufacturers/importers per year will use the recycled coating provision; 120 will use the exceedance fee provision; and 100 will use the tonnage exemption. The burden estimates for these provisions are 121 hours, 100 hours, and 43 hours, respectively.

Dated: August 7, 2001.
Thomas C. Curran,
Acting Director, Office of Air Quality Planning and Standards.

[FR Doc. 01-20796 Filed 8-16-01; 8:45 am]

BILLING CODE 6560-50-P